DEPARTMENT OF ENERGY

Federal Energy Regulatory Commission

[Docket No. RP96-312-146]

Tennessee Gas Pipeline Company; Notice of Negotiated Rate Filing

March 30, 2005.

Take notice that on March 23, 2005, Tennessee Gas Pipeline Company (Tennessee), 1001 Louisiana Street, Houston, Texas 77002, tendered for filing negotiated rate arrangement.

Tennessee states that the filed negotiated rate arrangement reflects an agreement between Tennessee and Cabot Oil and Gas Marketing Corporation for transportation under rate schedule FT-A to become effective April 1, 2005.

Any person desiring to protest this filing must file in accordance with Rules 211 of the Commission's Rules of Practice and Procedure (18 CFR 385.211). Protests to this will be considered by the Commission in determining the appropriate action to be taken, but will not serve to make protestants parties to the proceedings. Such protests must be filed in accordance with the provisions of Section 154.210 of the Commission's regulations (18 CFR 154.210). Anyone filing a protest must serve a copy of that document on Tennessee.

The Commission encourages electronic submission of protests and interventions in lieu of paper using the “e-Filing” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance, please contact FERC Online Support at FERCOnlineSupport@ferc.gov or toll-free at (866) 208-3676, or TTY, contact (202) 502-8659.

Magalie R. Salas,
Secretary.

[FR Doc. E5-1543 Filed 4-5-05; 8:45 am]

BILLING CODE 6717-01-P